DEPARTMENT OF ENERGY

Federal Energy Regulatory Commission

[Project No. 14253-003]

Lock+ Hydro Friends Fund IV; Notice of Successive Preliminary Permit Application Accepted for Filing and Soliciting Comments, Motions To Intervene, and Competing Applications

On January 20, 2015, the Lock+ Hydro Friends Fund IV filed an application for a successive preliminary permit under section 4(f) of the Federal Power Act proposing to study the feasibility of the proposed USACE MSR LD 17 Project No. 14253-003, to be located at the existing Mississippi River Lock and Dam No. 17 on the Mississippi River, near the city of New Boston, in Mercer County, Illinois and Louisa County, Iowa. The Mississippi River Lock and Dam No. 17 is owned by the United States government and operated by the Army Corps of Engineers. The sole purpose of a preliminary permit, if issued, is to grant the permit holder priority to file a license application during the permit term. A preliminary permit does not authorize the permit holder to perform any land-disturbing activities or otherwise enter upon lands or waters owned by others without the owners' express permission.

The proposed project would consist of: (1) Three new 109-foot-wide by 40-foot-high steel lock frame modules each containing ten 650-kilowatt hydropower turbines having a total combined generating capacity of 19.5 megawatts; (2) one new 109-foot-wide and one new 220-foot-wide tailrace extending 75-150 feet downstream; (3) a new 25-foot by 50-foot switchyard; (4) a new intake structure of undetermined size; (5) a new 6-mile-long, 69-kilovolt transmission line; and (6) appurtenant facilities. The project would have an estimated annual generation of 119,655 megawatt-hours.

Applicant Contact: Mr. Wayne F. Krouse, P.O. Box 43796, Birmingham, AL 35243; (877) 556-6566, extension 709.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14253-003.

More information about this project, including a copy of the application, can be viewed or printed on the “eLibrary” link of Commission's Web site at http://www.ferc.gov/docs-filing/elibrary.asp. Enter the docket number (P-14253) in the docket number field to access the document. For assistance, contact FERC Online Support.

Dated: February 5, 2015.
Kimberly D. Bose,
Secretary.

[FR Doc. 2015-02931 Filed 2-11-15; 8:45 am]

BILLING CODE 6717-01-P